DEPARTMENT OF THE TREASURY

Submission for OMB Review; Comment Request

March 21, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before April 29, 2002 to be assured of consideration.

Departmental Offices/Federal Consulting Group

OMB Number: New.

Form Number: None.

Type of Review: New collection.

Title: Customer Satisfaction Measure of Government Web Sites.

Description: The objectives of surveying customers of federal agency web sites are to: (1) Provide information for improving the quality of agency web sites; (2) provide continuous monitoring capabilities; (3) benchmark results against other agencies and private companies; (4) determine how different types of changes to the web site will impact future behaviors; and (5) make the agencies part of a national measure of customer satisfaction with web sites.

Respondents: Individuals or households, business or other for-profit, not-for-profit institutions, farms, Federal Government, State, Local or Tribal Government.

Estimated Number of Respondents: 300,000.

Estimated Burden Hours Per Respondent: 30 minutes.

Frequency of Response: Annually.

Estimated Total Reporting Burden: 10,000 hours.

Clearance Officer: Lois K. Holland (202) 622-1563, Departmental Offices, Room 2110, 1425 New York Avenue, NW, Washington, DC 20220.

OMB Reviewer: Alexander T. Hunt (202) 395-7860, Office of Management and Budget, Room 10202, New Executive Office Building, Washington, DC 20503.

Lois K. Holland,
Departmental Reports, Management Officer.

[FR Doc. 02-7561 Filed 3-28-02; 8:45 am]

BILLING CODE 4810-25-P